DEPARTMENT OF ENERGY

Federal Energy Regulatory Commission

Combined Notice of Filings

Take notice that the Commission has received the following Natural Gas Pipeline Rate and Refund Report filings:

Filings Instituting Proceedings

Docket Numbers: RP12-487-000

Applicants: Tuscarora Gas Transmission Company

Description: Stipulation and Agreement RP11-1823 to be effective 1/1/2012.

Filed Date: 3/15/12.

Accession Number: 20120315-5023

Comments Due: 5 p.m. ET 3/27/12

Docket Numbers: RP12-488-000

Applicants: Natural Gas Pipeline Company of America LLC

Description: Occidental Negotiated Rate Agreement to be effective 4/1/2012.

Filed Date: 3/15/12.

Accession Number: 20120315-5025

Comments Due: 5 p.m. ET 3/27/12

Docket Numbers: RP12-489-000

Applicants: Colorado Interstate Gas Company LLC

Description: CIG Non-Conforming Agreement Update Filing to be effective 4/16/2012.

Filed Date: 3/15/12

Accession Number: 20120315-5054

Comments Due: 5 p.m. ET 3/27/12

Docket Numbers: RP12-490-000

Applicants: Northwest Pipeline GP

Description: NWP 2012 Rates Stipulation and Settlement to be effective N/A.

Filed Date: 3/15/12

Accession Number: 20120315-5112

Comments Due: 5 p.m. ET 3/27/12

Docket Numbers: RP12-491-000

Applicants: Natural Gas Pipeline Company of America LLC

Description: Tenaska Negotiated Rate to be effective 3/15/2012.

Filed Date: 3/15/12

Accession Number: 20120315-5123

Comments Due: 5 p.m. ET 3/27/12

Docket Numbers: RP12-492-000

Applicants: White River Hub, LLC

Description: Change of Business Address to be effective 4/15/2012.

Filed Date: 3/15/12

Accession Number: 20120315-5133

Comments Due: 5 p.m. ET 3/27/12

Docket Numbers: RP12-493-000

Applicants: Questar Southern Trails Pipeline Company

Description: Change of Business Address to be effective 4/15/2012.

Filed Date: 3/15/12

Accession Number: 20120315-5137

Comments Due: 5 p.m. ET 3/27/12

Docket Numbers: RP12-494-000

Applicants: Questar Overthrust Pipeline Company

Description: Change of Business Address to be effective 4/15/2012.

Filed Date: 3/15/12

Accession Number: 20120315-5139

Comments Due: 5 p.m. ET 3/27/12

Docket Numbers: RP12-495-000

Applicants: Questar Pipeline Company

Description: Change of Business Address to be effective 4/15/2012.

Filed Date: 3/15/12

Accession Number: 20120315-5144

Comments Due: 5 p.m. ET 3/27/12

Docket Numbers: RP12-496-000

Applicants: El Paso Natural Gas Company

Description: Non-Conforming OPASA Filing to be effective 4/16/2012.

Filed Date: 3/16/12

Accession Number: 20120316-5116

Comments Due: 5 p.m. ET 3/28/12

Docket Numbers: RP12-497-000

Applicants: Midcontinent Express Pipeline LLC

Description: Negotiated Rate Amendment—Sawgrass to be effective 3/16/2012.

Filed Date: 3/16/12

Accession Number: 20120316-5117

Comments Due: 5 p.m. ET 3/28/12

Docket Numbers: RP12-498-000

Applicants: CenterPoint Energy Gas Transmission Company, LLC

Description: CEGT LLC—Fuel Tracker Effective May 1, 2012 to be effective 5/1/2012.

Filed Date: 3/19/12

Accession Number: 20120319-5060

Comments Due: 5 p.m. ET 4/2/12

Any person desiring to intervene or protest in any of the above proceedings must file in accordance with Rules 211 and 214 of the Commission's Regulations (18 CFR 385.211 and 385.214) on or before 5 p.m. Eastern time on the specified comment date. Protests may be considered, but intervention is necessary to become a party to the proceeding.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: March 19, 2012.
Nathaniel J. Davis, Sr.,
Deputy Secretary.

[FR Doc. 2012-7141 Filed 3-23-12; 8:45 am]

BILLING CODE 6717-01-P